FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012084-004.

Title: HLAG/Maersk Line Gulf-South America Slot Charter Agreement.

Parties: A.P. Moller-Maersk A/S and Hapag-Lloyd AG.

Filing Party: Joshua P. Stein; Cozen O'Connor; 1627 I Street NW., Suite 1100; Washington, DC 20006-4007.

Synopsis: The amendment deletes references to authority relating to the chartering of space between the parties in the Gulf-Central America trade, as such authority is now set forth in another slot charter agreement.

Agreement No.: 012248.

Title: MOL/NMCC/WLS Joint Operating Agreement.

Parties: Mitsui O.S.K. Lines, Ltd.; Nissan Motor Car Carrier Co., Ltd.; and World Logistics Service (U.S.A.), Inc.

Filing Party: Eric. C. Jeffrey, Esq.; Nixon Peabody LLP; 401 9th Street NW., Suite 900; Washington, DC 20004.

Synopsis: The agreement authorizes the parties to engage in operational and commercial cooperation in the U.S. trades.

By Order of the Federal Maritime Commission.
Dated: February 21, 2014.
Karen V. Gregory,
Secretary.

[FR Doc. 2014-04182 Filed 2-25-14; 8:45 am]

BILLING CODE 6730-01-P